DEPARTMENT OF AGRICULTURE

Natural Resources Conservation Service

Notice of Availability

AGENCY: USDA Natural Resources Conservation Service.

ACTION: Notice of Availability of proposed changes and new conservation practice standards in Section IV of the South Dakota Technical Guide (SDTG) of the NRCS in South Dakota for review and comment.

SUMMARY: It is the intention of the NRCS in South Dakota to issue revised conservation practice standards in Section IV of the SDTG for the following practices: Wetland Wildlife Habitat Management (644), Upland Wildlife Habitat Management (645), Wildlife Watering Facility (648), and Wetland Restoration (657). Also, it is the intention of the NRCS in South Dakota to issue new conservation practice standards in Section IV of the SDTG for the following practices: Wetland Enhancement (659), Wetland Creation (658), Shallow Water Management for Wildlife (646), Early Successional Habitat Development/Management (647), Restoration and Management of Declining Habitats (643), and Riparian Herbaceous Cover (390).

DATES: Comments on this notice must be received on or before July 24, 2000.

ADDRESSES: All comments concerning the proposed conservation practice standards changes should be addressed to: Dean Fisher, State Conservationist, NRCS, 200 Fourth Street SW, Huron, South Dakota 57350. Copies of these standards will be made available upon written request.

Dated: June 7, 2000.
Dean Fisher,
State Conservationist, Natural Resources Conservation Service, Huron, South Dakota 57350.

[FR Doc. 00-15886 Filed 6-22-00; 8:45 am]

BILLING CODE 3410-16-P